DEPARTMENT OF TRANSPORTATION

Federal Aviation Administration

Notice of Intent To Rule on Passenger Facility Charge (PFC) Application 11-05-C-00-SFO to Impose and Use PFC Revenue at San Francisco International Airport, San Francisco, California

AGENCY: Federal Aviation Administration (FAA), DOT.

ACTION: Notice of intent to rule on application.

SUMMARY: The FAA proposes to rule and invites public comment on the application to impose and use PFC revenue at San Francisco International Airport (SFO), under the provisions of the Aviation Safety and Capacity Expansion Act of 1990 (Title IX of the Omnibus Budget Reconciliation Act of 1990) (Pub. L. 101-508) and Part 158 of the Federal Aviation Regulations (Title 14 CFR part 158).

DATES: Comments must be received on or before August 8, 2013.

ADDRESSES: Comments on this application may be mailed or delivered in triplicate to the FAA at the following address: Federal Aviation Administration, Airports Division, 15000 Aviation Blvd., Room 3012, Lawndale, CA 90261. In addition, one copy of any comments submitted to the FAA must be mailed or delivered to Mr. John L. Martin, Airport Director, San Francisco International Airport, at the following address: 575 North McDonnell Road, 2nd Floor, San Francisco, CA 94128. Air carriers and foreign air carriers may submit copies of written comments previously provided to the San Francisco Airport Commission under section 158.23 of Part 158.

FOR FURTHER INFORMATION CONTACT: Arlene Draper, Assistant Manager, San Francisco Airports District Office, 1000 Marina Boulevard, Suite 220, Brisbane, CA 94005-1835, Telephone: (650) 827-7602. The application may be reviewed in person at this same location.

SUPPLEMENTARY INFORMATION: The FAA proposes to rule and invites public comment on the application to impose and use PFC revenue at San Francisco International Airport, under the provisions of the 49 U.S.C. 40117 and Part 158 of the Federal Aviation Regulations (Title 14 CFR Part 158).

On October 5, 2010, the public agency submitted an application to impose and use PFC revenue on 25 projects at SFO. On November 4, 2010, the FAA found the application was not substantially complete. On November 18, 2010, the public agency notified the FAA of their intent to supplement the application. The FAA received the supplemented application on June 14, 2013, within the requirements of section 158.27 of Part 158. The FAA will approve or disapprove the application, in whole or in part, no later than October 12, 2013.

The following is a brief overview of PFC application No. 11-05-C-00-SFO:

Proposed charge effective date: January 1, 2017.

Proposed charge expiration date: June 1, 2023.

Level of the proposed PFC: $4.50.

Total estimated PFC revenue: $610,451,805.

Description of the impose and use project:

Terminal 2 and Boarding Area D Renovations—the project provides for the reimbursement of the costs associated with the renovation, expansion, and modernization of the San Francisco International Airport Terminal 2 and Boarding Area D, including the installation of 14 boarding gates and associated aircraft parking apron and passenger loading bridges.

Withdrawn Projects: By letter dated June 14, 2013, the public agency withdrew 23 airfield improvement projects and the International terminal common use system improvements project, included in the original October 5, 2010 application. Therefore, these projects are no longer part of this application.

Class or classes of air carriers which the public agency has requested not be required to collect PFCs: Non-scheduled on-demand air carriers filing FAA Form 1800-31.

Any person may inspect the application in person at the FAA office listed above under FOR FURTHER INFORMATION CONTACT and at the FAA Regional Office located at: 15000 Aviation Blvd., Room 3012, Lawndale, CA 90261. In addition, any person may, upon request, inspect the application, notice and other documents germane to the application in person at the San Francisco International Airport.

Issued in Lawndale, California, on June 27, 2013.
Mia Paredes Ratcliff,
Manager, Planning and Programming Branch, Western-Pacific Region.

[FR Doc. 2013-16453 Filed 7-8-13; 8:45 am]

BILLING CODE 4910-13-P